DEPARTMENT OF ENERGY

Blue Ribbon Commission on America's Nuclear Future

AGENCY: Office of Nuclear Energy, Department of Energy.

ACTION: Notice of open meeting.

SUMMARY: This notice announces an open meeting of the Blue Ribbon Commission on America's Nuclear Future (the Commission). The Commission was organized pursuant to the Federal Advisory Committee Act (Pub. L. 92-463, 86 Stat. 770) (the Act). This notice is provided in accordance with the Act.

DATES: Friday, May 13, 2011, 9 a.m.-4 p.m.

ADDRESSES: Renaissance Washington, DC Dupont Circle Hotel, 1143 New Hampshire Avenue, NW., Washington, DC 20037, Telephone: (202) 775-0800.

FOR FURTHER INFORMATION CONTACT: Timothy A. Frazier, Designated Federal Officer, U.S. Department of Energy, 1000 Independence Avenue, SW., Washington, DC 20585; telephone (202) 586-4243 or facsimile (202) 586-0544; e-mail CommissionDFO@nuclear.energy.gov. Additional information will be available at http://www.brc.gov.

SUPPLEMENTARY INFORMATION:

Background: The President directed that the Commission be established to conduct a comprehensive review of policies for managing the back end of the nuclear fuel cycle. The Commission will provide advice and make recommendations on issues including alternatives for the storage, processing, and disposal of civilian and defense spent nuclear fuel and nuclear waste. The Commission is scheduled to submit a draft report to the Secretary of Energy in July 2011 and a final report in January 2012.

This is the seventh open full Commission meeting. Previous meetings were held in March, May, July, September, and November 2010 and February 2011. Webcasts of the previous meetings along with meeting transcripts and presentations are available at http://www.brc.gov.

Purpose of the Meeting: There are two purposes for this meeting. The first is to understand what steps are being taken by the Nuclear Regulatory Commission and the Department of Energy to review the safety of nuclear facilities—particularly facilities for the storage of spent nuclear fuel and high-level wastes—in light of the events in Japan. The second purpose is to allow the Co-chairs of the three Subcommittees—Reactor and Fuel Cycle Technology, Transportation and Disposal, and Disposal—to review draft recommendations with the full Commission.

Tentative Agenda: The meeting is expected to begin at 9 a.m. on Friday, May 13, 2011. The agenda will include presentations by the Nuclear Regulatory Commission and the Department of Energy. The subcommittee presentations are expected to begin at 11 a.m. with a break for lunch at noon and resuming at 1 p.m. Public statements will begin at approximately 3:15 p.m. and conclude at 4:30 p.m.

Public Participation: Individuals and representatives of organizations who would like to offer comments and suggestions may do so at the end of the public session on Friday, May 13, 2011. Approximately 1 hour and 15 minutes will be reserved for public comments from 3:15 p.m. to 4:30 p.m. Time allotted per speaker will depend on the number who wish to speak but will not exceed 5 minutes. The Designated Federal Officer is empowered to conduct the meeting in a fashion that will facilitate the orderly conduct of business. Those wishing to speak should register to do so beginning at 8:30 a.m. on May 13, 2011, at the Renaissance Washington, DC Dupont Circle Hotel. Registration to speak will close at 2 p.m., May 13, 2011.

Those not able to attend the meeting or having insufficient time to address the committee are invited to send a written statement to Timothy A. Frazier, U.S. Department of Energy 1000 Independence Avenue, SW., Washington DC 20585; e-mail to CommissionDFO@nuclear.energy.gov, or post comments on the Commission Web site at http://www.brc.gov.

Additionally, the meeting will be available via live video webcast. The link will be available at http://www.brc.gov.

Minutes: The minutes of the meeting will be available at http://www.brc.gov or by contacting Mr. Frazier. He may be reached at the postal address or e-mail address above.

Issued at Washington, DC, on April 25, 2010.
LaTanya Butler,
Acting Deputy Committee Management Officer.

[FR Doc. 2011-10275 Filed 4-27-11; 8:45 am]

BILLING CODE 6450-01-P